NUCLEAR REGULATORY COMMISSION

[NRC-2015-0286]

Operating Philosophy for Maintaining Occupational Radiation Exposures as Low as is Reasonably Achievable

AGENCY: Nuclear Regulatory Commission.

ACTION: Draft regulatory guide; request for comment.

SUMMARY: The U.S. Nuclear Regulatory Commission (NRC) is issuing for public comment draft regulatory guide (DG), DG-8033, “Operating Philosophy for Maintaining Occupational Radiation Exposures As Low as is Reasonably Achievable.” This DG is proposed Revision 2 to Regulatory Guide (RG) 8.10 and describes methods and procedures that the staff of NRC considers acceptable for maintaining radiation exposures to employees and the public as low as is reasonably achievable (ALARA). This revision incorporates additional guidance from operating ALARA experience since the previous revision to RG 8.10 in 1975.

DATES: Submit comments by February 22, 2016. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specified subject):

• Federal rulemaking Web site: Go to http://www.regulations.gov and search for Docket ID NRC-2015-0286. Address questions about NRC dockets to Carol Gallagher; telephone: 301-415-3463; email: Carol.Gallagher@nrc.gov. For technical questions, contact the individual(s) listed in the FOR FURTHER INFORMATION CONTACT section of this document.

• Mail comments to: Cindy Bladey, Office of Administration, Mail Stop: OWFN-12H08, U.S. Nuclear Regulatory Commission, Washington, DC 20555-0001.

For additional direction on accessing information and submitting comments, see “Obtaining Information and Submitting Comments” in the SUPPLEMENTARY INFORMATION section of this document.

FOR FURTHER INFORMATION CONTACT: Casper Sun, telephone: 301-415-1646, email: Casper.Sun@nrc.gov, and Harriet Karagiannis, telephone: 301-415-2493, email: Harriet.Karagiannis@nrc.gov. Both are staff of the Office of Nuclear Regulatory Research, U.S. Nuclear Regulatory Commission, Washington, DC 20555-0001.

SUPPLEMENTARY INFORMATION:

I. Obtaining Information and Submitting Comments

A. Obtaining Information

Please refer to Docket ID NRC-2015-0286 when contacting the NRC about the availability of information regarding this document. You may obtain publically-available information related to this document by any of the following methods:

• Federal Rulemaking Web site: Go to http://www.regulations.gov and search for Docket ID NRC-2015-0286.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if available in ADAMS), is provided the first time that a document is referenced. The DG is electronically available in ADAMS under Accession No. ML15203B410.

• NRC's PDR: You may examine and purchase copies of public documents at the NRC's PDR, Room O1-F21, One White Flint North, 11555 Rockville Pike, Rockville, Maryland 20852.

B. Submitting Comments

Please include Docket ID NRC-2015-0286 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that do not want to be publicly disclosed in their comment submission. Your request should state that the NRC does not routinely edit comment submissions to remove such information before making the comment submissions available to the public or entering the comment submissions into ADAMS.

II. Discussion

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The DG, entitled, “Operating Philosophy for Maintaining Occupational Radiation Exposures As Low as is Reasonably Achievable,” is temporarily identified by its task number, DG-8033. Draft guide-8033 is proposed Revision 2 of Regulatory Guide (RG) 8.10, dated September 1975.

The NRC issued RG 8.10 in 1975 to provide guidance on an acceptable program for maintaining radiation exposures to employees and the public as low as is reasonably achievable (ALARA). In 1991, the NRC promulgated amendments to Title 10 of the Code of Federal Regulations Part 20 (10 CFR part 20) regulations (56 FR 23360; May 21, 1991). The 1991 rulemaking included substantive amendments to the 10 CFR part 20 regulations as well as a renumbering of those regulations. As such, this revision (Revision 2) to the guide aligns with the regulatory structure of 10 CFR part 20 by updating the guide's cross-references to the current 10 CFR part 20 regulations. In addition, this revision includes additional guidance from operating ALARA experience since 1975.

III. Backfitting and Issue Finality

This draft guide, if finalized, would provide updated guidance on the methods acceptable to the NRC staff for complying with the NRC's regulations associated with ALARA. The draft guide would apply to current and future applicants for and holders of:

• (1) Licenses issued under 10 CFR part 70 to possess or use, at any site or contiguous sites subject to licensee control, a formula quantity of strategic special nuclear material, as defined in 10 CFR 70.4; (2) operating licenses for nuclear power reactors under 10 CFR part 50; and (3) approvals issued under subpart B, C, E, and F of 10 CFR part 52 (“protected applicants and licensees”).

• operating licenses for nuclear non-power reactors under 10 CFR part 50.

• general domestic licenses for byproduct material under 10 CFR part 31.

• specific domestic license to manufacture or transfer certain items containing byproduct material under 10 CFR part 32.

• specific domestic licenses of broad scope for byproduct material under 10 CFR part 33.

• licenses for industrial radiography under 10 CFR part 34.

• licenses for medical use of byproduct material under 10 CFR part 35.

• licenses for irradiators under 10 CFR part 36.

• licenses for well logging under 10 CFR part 39.

• licenses for source material under 10 CFR part 40.

• licenses for packaging and transportation of radioactive material under 10 CFR part 71.

• licenses for independent storage under 10 CFR part 72.

Holders of approvals under 10 CFR parts 31, 32, 33, 34, 35, 36, 39, 40, and 71 of the NRC's regulations and holders of nonpower reactor operating licenses under 10 CFR part 50 are not protected by backfitting or issue finality provisions.

Issuance of this DG in final form would not constitute backfitting under 10 CFR parts 50, 70, or 72 and would not otherwise be inconsistent with the issue finality provisions in 10 CFR part 52. As discussed in the “Implementation” section of this DG, the NRC has no current intention to impose the DG, if finalized, on current holders of 10 CFR part 50 operating licenses, 10 CFR part 52, subpart B, C, E, or F approvals, 10 CFR part 70 licenses, or 10 CFR part 72 licenses.

The DG, if finalized, could be applied to applications for 10 CFR part 50 operating licenses; 10 CFR part 52, subpart B, C, E, or F approvals; licenses issued under 10 CFR part 70; or licenses issued under 10 CFR part 72. Such action would not constitute backfitting as defined in 10 CFR 50.109, 70.76, or 72.62 or be otherwise inconsistent with the applicable issue finality provision in 10 CFR part 52, inasmuch as such applicants are not within the scope of entities protected by 10 CFR 50.109, 70.76, or 72.62 or the relevant issue finality provisions in 10 CFR part 52.

Backfitting restrictions were not intended to apply to every NRC action that substantially changes settled expectations, and applicants have no reasonable expectation that future requirements may change, see 54 FR 15372 (April 18, 1989), at 15385-86. Although the issue finality provisions in 10 CFR part 52 are intended to provide regulatory stability and issue finality, the matters addressed in this regulatory guide (concerning certain ALARA requirements in 10 CFR part 20 and 10 CFR part 50 appendix I) are not within the scope of issues that may be resolved for design certification, design approval or a manufacturing license, and therefore are not subject to issue finality protections in 10 CFR part 52.

Dated at Rockville, Maryland, this 18th day of December, 2015.
For the Nuclear Regulatory Commission.
Thomas H. Boyce,
Chief, Regulatory Guidance and Generic Issues Branch, Division of Engineering, Office of Nuclear Regulatory Research.

[FR Doc. 2015-32414 Filed 12-23-15; 8:45 am]

BILLING CODE 7590-01-P